DEPARTMENT OF COMMERCE

National Oceanic and Atmospheric Administration

50 CFR Part 660

[Docket No. 020628163-2221-02; 061302B]

RIN 0648-AP43

Fisheries Off West Coast States and in the Western Pacific; Coastal Pelagic Species Fisheries; Annual Specifications

AGENCY: National Marine Fisheries Service (NMFS), National Oceanic and Atmospheric Administration (NOAA), Commerce.

ACTION: Final rule.

SUMMARY: NMFS issues a regulation to implement the annual harvest guideline for Pacific mackerel in the U.S. exclusive economic zone off the Pacific coast. The Coastal Pelagic Species (CPS) Fishery Management Plan (FMP) and its implementing regulations require NMFS to set an annual harvest guideline for Pacific mackerel based on the formula in the FMP. The intended effect of this action is to conserve Pacific mackerel off the Pacific coast.

DATES: Effective November 4, 2002, until the 2003 annual specifications are effective, unless modified, superseded, or rescinded through a publication in the Federal Register.

ADDRESSES: The report Stock Assessment of Pacific Mackerel with Recommendations for the 2002-2003 Management Season may be obtained from Rodney R. McInnis, Acting Administrator, Southwest Region, NMFS, 501 West Ocean Boulevard, Suite 4200, Long Beach, CA 90802.

FOR FURTHER INFORMATION CONTACT: James J. Morgan, Southwest Region, NMFS, (562) 980-4036.

SUPPLEMENTARY INFORMATION: The FMP, which was implemented by publication of a final rule in the Federal Register on December 15, 1999 (64 FR 69888), divides management unit species into the categories of actively managed and monitored. Harvest guidelines of actively managed species (Pacific sardine and Pacific mackerel) are based on formulas applied to current biomass estimates. Biomass estimates are not calculated for species that are only monitored (jack mackerel, northern anchovy, and market squid).

At a public meeting each year, the biomass for each actively managed species is reviewed by the Pacific Fishery Management Council's (Council) CPS Management Team (Team). The biomass, harvest guideline, and status of the fisheries are then reviewed at a public meeting of the Council's CPS Advisory Subpanel (Subpanel). This information is also reviewed by the Council's Scientific and Statistical Committee (SSC). The Council reviews reports from the Team, Subpanel, and SSC, and then, after providing time for public comment, makes its recommendation to NMFS. The annual harvest guideline and season structure is published by NMFS in the Federal Register as soon as practicable before the beginning of the appropriate fishing season. The Pacific mackerel season begins on July 1 of each year and ends on June 30 the following year.

A public meeting of the Team took place at the Southwest Fisheries Science Center in La Jolla, California, on May 29, 2002 (67 FR 34434, May 14, 2002), where the biomass estimate and harvest guideline were reviewed. Based on the Team's review, a proposed rule was published on July 11, 2002 (67 FR 45952), soliciting public comment on a harvest guideline of 12,456 metric tons (mt) based on a biomass estimate of 77,516 mt. Public comment was also requested on how the season might be structured to minimize the impact of a low mackerel harvest on the harvest of other CPS. The public comment period ended on July 26, 2002. No comments were received.

The SSC and Subpanel meetings occurred in conjunction with the June 17-21, 2002, Council meeting in Foster City, California. During the Subpanel meeting, the Team calculated a revised biomass estimate by updating estimates of fishing mortality obtained since the Team meeting on May 29, 2002. A revised biomass of 77,892 mt and a revised harvest guideline of 12,535 mt was presented to the Subpanel.

The Subpanel reviewed the experience of the fishing industry during the 2001/2002 fishing season to develop a strategy for the 2002/2003 fishing season. With the goal of minimizing bycatch, which would likely occur if the Pacific mackerel season were closed and mackerel were mixed in schools of Pacific sardine, the Subpanel recommended a directed fishery of 9,500 mt, with 3,035 mt held in reserve. This would allow for an incidental harvest of mackerel in the sardine fishery. When 9,500 mt was landed, 40 percent by weight of Pacific mackerel could be landed in loads of any CPS until the reserve of 3,035 mt was attained.

At its meeting on June 21, 2002, the Council received reports from its Team, SSC, and Subpanel. Following public comments, which supported the Subpanel's recommendation, the Council recommended to NMFS that there be a harvest guideline of 12,535 mt, based on the biomass of 77,892 mt. The Council also recommended that the season be structured as recommended by the Subpanel. Any harvest of Pacific mackerel after July 1, 2002, would be allocated toward the 2002/2003 harvest guideline.

A modified virtual population analysis stock assessment model is used to estimate the biomass of Pacific mackerel. The model employs both fishery dependent and fishery independent indices to estimate abundance. The biomass was calculated through the end of 2001, and then estimated for the fishing season that began on July 1, 2002, based on (1) the number of Pacific mackerel estimated to comprise each year class at the beginning of 2002, (2) modeled estimates of fishing mortality during 2001, (3) assumptions for natural and fishing mortality through the first half of 2002, and (4) estimates of age-specific growth. Based on this approach, the biomass for July 1, 2002, is 77,892 metric tons (mt). Applying the formula in the FMP results in a harvest guideline of 12,535 mt, which is lower than last year but similar to low harvest guidelines of recent years.

The formula in the FMP uses the following factors to determine the harvest guideline:

1. The biomass of Pacific mackerel. For 2002, this estimate is 77,892 mt.

2. The cutoff. This is the biomass level below which no commercial fishery is allowed. The FMP established the cutoff level at 18,200 mt. The cutoff is subtracted from the biomass, leaving 59,692 mt.

3. The portion of the Pacific mackerel biomass that is in U.S. waters. This estimate is 70 percent, based on the historical average of larval distribution obtained from scientific cruises and the distribution of the resource obtained from logbooks of fish-spotters. Therefore, the harvestable biomass in U.S. waters is 70 percent of 59,692 mt, that is, 41,784 mt.

4. The harvest fraction. This is the percentage of the biomass above 18,200 mt that may be harvested. The FMP established the harvest fraction at 30 percent. The harvest fraction is multiplied by the harvestable biomass in U.S. waters (41,784 mt), which is 12,535 mt.

Information on the fishery and the stock assessment are found in the report Stock Assessment of Pacific Mackerel with Recommendations for the 2002-2003 Management Season, which may be obtained at the address above (see ADDRESSES).

In view of the above, the following determinations have been made:

1. Based on the estimated biomass of 77,892 mt and the formula in the FMP, a harvest guideline of 12,535 mt has been calculated and will be in effect for the fishery which began on July 1, 2002. This harvest guideline is available for harvest for the fishing season that began at 12:01 a.m. on July 1, 2002, and continues through June 30, 2003.

2. There will be a directed fishery of at least 9,500 mt, and 3,035 mt of the harvest guideline will be utilized for incidental landings following the closure of the directed fishery.

NMFS will announce in the Federal Register closure of the directed fishery, after which no more than 40 percent by weight of a landing of Pacific sardine, northern anchovy, jack mackerel, or market squid may consist of Pacific mackerel, except that up to 1 mt of Pacific mackerel may be landed without landing any other coastal pelagic species. The fishery will be monitored, and if a sufficient amount of the harvest guideline remains before June 30, 2003, the directed fishery will be reopened. The goal is to achieve the harvest guideline and minimize the impact on other coastal pelagic fisheries.

Classification

These final specifications are issued under the authority of, and NMFS has determined that they are in accordance with, the Magnuson-Stevens Fishery Conservation and Management Act, the FMP, and the regulations implementing the FMP at 50 CFR part 660, subpart I.

This final rule has been determined to be not significant for purpose of Executive Order 12866.

The Chief Counsel for Regulation of the Department of Commerce certified to the Chief Counsel for Advocacy of the Small Business Administration that the proposed rule for this action would not have a significant economic impact on a substantial number of small entities. The factual basis for the certification was published in the proposed rule. No comments were received regarding the economic impacts of this action. As a result, no regulatory flexibility analysis was prepared.

Authority: 16 U.S.C. 1801 et seq.

Dated: September 30, 2002
Rebecca Lent,
Deputy Assistant Administrator for Regulatory Programs, National Marine Fisheries Service

[FR Doc. 02-25170 Filed 10-2-02; 8:45 am]

BILLING CODE 3510-22-S